DEPARTMENT OF ENERGY

Federal Energy Regulatory Commission

Notice of Meeting

June 19, 2002.

The following notice of meeting is published pursuant to Section 3(a) of the Government in the Sunshine Act (Pub. L. No. 94-409), 5 U.S.C. 552b:

AGENCY HOLDING MEETING: Federal Energy Regulatory Commission.

DATE AND TIME: June 26, 2002 (30 Minutes Following Regular Commission Meeting).

PLACE: Hearing Room 5, 888 First Street, NE., Washington, DC 20426.

STATUS: Closed.

MATTERS TO BE CONSIDERED: Non-Public Investigations and Inquiries and Enforcement Related Matters.

CONTACT PERSON FOR MORE INFORMATION: Magalie R. Salas, Secretary. Telephone (202) 208-0400.

Magalie R. Salas,
Secretary.

[FR Doc. 02-16152 Filed 6-21-02; 2:34 pm]

BILLING CODE 6717-01-P